DEPARTMENT OF COMMERCE

International Trade Administration

[A-570-601]

Tapered Roller Bearings and Parts Thereof, Finished and Unfinished, From the People's Republic of China: Extension of Final Results of Antidumping Duty Administrative Review

AGENCY: Import Administration, International Trade Administration, Department of Commerce.

ACTION: Notice of extension of time limit for final results of antidumping duty administrative review.

EFFECTIVE DATE: September 29, 2000.

FOR FURTHER INFORMATION CONTACT: Greg Campbell at (202) 482-2239, Office of AD/CVD Enforcement I, Group I, Import Administration, International Trade Administration, U.S. Department of Commerce, 14th Street and Constitution Ave, NW., Washington, DC 20230.

Time Limits

Statutory Time Limits

Section 751(a)(3)(A) of the Tariff Act of 1930, as amended (the Act), requires the Department to make a preliminary determination within 245 days after the last day of the anniversary month of an order/finding for which a review is requested and a final determination within 120 days after the date on which the preliminary determination is published. However, if it is not practicable to complete the review within the time period, section 751(a)(3)(A) of the Act allows the Department to extend these deadlines to a maximum of 365 days and 180 days, respectively.

Background

On July 29, 1999, the Department published a notice of initiation of administrative review of the antidumping duty order on tapered roller bearings and parts thereof, finished and unfinished, from the People's Republic of China, covering the period June 1, 1998 to May 31, 1999 (64 FR 41075). On June 29, 2000, we issued the preliminary results of review (65 FR 41944). In our notice of preliminary results, we stated our intention to issue the final results of this review no later than November 4, 2000.

Extension of Final Results of Review

We determine that due to the numerous complex issues raised by parties in this review, it is not practicable to complete the final results of this review within the original time limit. Therefore, the Department is extending the time limits for completion of the final results until no later than January 3, 2001.

This extension is in accordance with section 751(a)(3)(A) of the Act.

Dated: September 22, 2000.

Richard W. Moreland,
Deputy Assistant Secretary, Import Administration, Group I.

[FR Doc. 00-25081 Filed 9-28-00; 8:45 am]

BILLING CODE 3510-DS-P